DEPARTMENT OF HEALTH AND HUMAN SERVICES

Centers for Medicare & Medicaid Services

[CMS-2189-N]

RIN 0938-ZA46

Medicaid Program; Real Choice Systems Change Grants

Part 1. Overview Information

Funding Opportunity Title: Medicaid Program; Real Choice Systems Change Grants.

Announcement Type: Notice of funding availability (new announcement).

Funding Opportunity Number: Not applicable.

Catalog of Federal Domestic Assistance (CFDA) No.: 93.779.

DATES: Deadline for Letter of Intent To Apply: States are encouraged to submit a notice of intent to apply for a grant no later than June 8, 2004.

Date of Applicant's Teleconference: Information regarding the time and call-in number for an open applicant's teleconference is available on the CMS Web site at http://www.cms.hhs.gov/newfreedom.

Deadline for Grant Submission: Grant applications are due by July 19, 2004. All grant awards will be made before September 30, 2004. All grants awarded under this funding opportunity will have a budget period of 36 months and a start date of no later than October 1, 2004.

Part 2. Full Text of the Announcement

I. Funding Opportunity Description

A. Overview of Funding Opportunity

This notice announces the availability of funding from the Centers for Medicare & Medicaid Services (CMS) for Real Choice Systems Change Grants. The Conference Report accompanying the Consolidated Appropriations Act, 2004 (Pub. L. 108-199) contained language expressing an intent to fund the Real Choice Systems Change Grants at $40 million. Although the Congress appropriated $40 million in funding for Real Choice Systems Change activities, the Congress also passed an across-the-board rescission of .59 percent and a second rescission of .6864 percent which would reduce the original $40 million to $39,491,060. Some of these funds will be used for fiscal year (FY) 2004 Aging and Disabilities Resource Centers grants that CMS will fund in collaboration with the Administration on Aging (AoA). This notice announces the availability of approximately $31 million in funding for nine grant opportunities pursuant to the President's Executive Order 13217 “Community-Based Alternatives for Individuals with Disabilities” and authorized under section 1110 of the Social Security Act (the Act).

The Congress recognized that States face formidable challenges in their efforts to fulfill their legal responsibilities under the Americans with Disabilities Act (ADA). In fiscal years 2001, 2002, and 2003, the Congress appropriated funds for “Real Choice Systems Change Grants” specifically to improve community-integrated services; and CMS awarded grants totaling approximately $158 million to 49 States, the District of Columbia, and two territories. With this support, States are continuing to address issues such as personal assistance services, direct service worker shortages, transitions from institutions to the community, respite service for caregivers and family members, and better transportation options. CMS has an ambitious national technical assistance strategy to support States' efforts to improve community-based service systems and enhance employment supports. CMS is also helping States assist each other by posting a repository of “Promising Practices” on its Web site at http://www.cms.hhs.gov/promisingpractices and by supporting the dissemination of technical assistance materials at http://www.hcbs.org.

Real Choice Systems Change Grants are a part of the President's New Freedom Initiative to eliminate barriers to equality and grant a “New Freedom” to children and adults of all ages who have a disability or long-term illness so that they may live and prosper in their communities. They are designed to assist States and others in building infrastructure that will result in effective and enduring improvements in long-term support systems. These systemic changes are designed to enable children and adults of any age who have a disability or long-term illness to:

• Live in the most integrated community setting appropriate to their individual support requirements and preferences;

• Exercise meaningful choices about their living environment, the providers of services they receive, the types of supports they use and the manner by which services are provided; and

• Obtain quality services in a manner as consistent as possible with their community living preferences and priorities.

The complete solicitation package for the Real Choice Systems Change Grants, which includes programmatic, administrative, and eligibility information needed to apply for these grants is available at http://www.cms.hhs.gov/newfreedom/2004solicitation.pdf.

B. Description of Grant Opportunities

Following are brief descriptions of the nine grant opportunities available under this notice. A full description of the programmatic requirements for each of the funding opportunities under the Real Choice Systems Change Grants is available in the solicitation package for these grants at http://www.cms.hhs.gov/newfreedom/2004solicitation.pdf.

1. Quality Assurance & Quality Improvement System in Home and Community-Based Services (HCBS)

The purpose of the Quality Assurance & Quality Improvement Systems in HCBS grant opportunity is to assist States to: (a) Fulfill their commitment to assure the health and welfare of individuals who participate in the State's home and community-based waivers under section 1915(c) of the Social Security Act (the Act); (b) develop effective methods to meet statutory requirements and CMS expectations by the use of ongoing quality management strategies; and (c) develop methods to involve program participants and community members in active roles in the State quality management activities.

2. Integrating Long Term Supports With Affordable Housing

The purpose of the Long Term Supports coordinated with Affordable and Accessible Housing grant opportunity is to remove barriers that prevent Medicaid-eligible individuals with disabilities of all ages from residing in the community or in the housing arrangement of their choice. A major barrier to community living for these individuals is limited access to affordable, accessible, and quality housing that incorporates long term supports. This grant will assist States to create the infrastructure to increase the access to and the capacity of affordable and accessible housing, and to coordinate with supports funded through State Plan services, waiver services or other service agencies. It is not the intent of this grant opportunity to fund a nursing home transition initiative, nor is it intended as a vehicle for Medicaid to pay for housing costs, except for expenses associated with the transition of individuals from institutions.

3. Portals from Early Periodic Screening, Diagnosis, and Treatment (EPSDT) to Adult Supports

The purpose of the Portals from EPSDT to Adult Supports grant opportunity is to assist States in addressing the needs of children who have disabilities who receive community health services through EPDST and who are re-determined to be eligible for Supplemental Security Income (SSI)/Medicaid at age 21 (or younger at the discretion of the State). CMS will assist States in: (a) Developing and implementing a State Plan amendment, (b) developing a waiver or demonstration application to provide new supports to this population and implement enrollment into the waiver or demonstration; or (c) developing a waiver amendment application to expand either services or slots in the State's existing targeted disability waiver(s). These projects must evidence coordination with pertinent transition resources that are provided through the Social Security Administration (SSA), Department of Labor (DOL), or the Office of Special Education and Rehabilitation Services (OSERS).

4. Comprehensive Systems Reform Effort

The purpose of the Comprehensive Systems Reform Effort grant opportunity is to assist States to decrease their reliance on institutional services and increase the level of supports that are controlled by the individuals that receive them by supporting a comprehensive planning, designing, and implementation effort to reform their long term care systems.

5. Mental Health: Systems Transformation

The purpose of the Mental Health: Systems Transformation grant opportunity is to provide funding to improve the ability of States to offer evidence-based and recovery-oriented services to consumers with mental illnesses with support of the Medicaid system. In July 2003, the President's New Freedom Commission on Mental Health finished its work and published its final report: Achieving the Promise: Transforming Mental Health Care in America. This grant opportunity will assist States in addressing recommendations made in this report to further align their mental health system with the recovery orientation of mental health practice.

6. Rebalancing Initiative

The purpose of the Rebalancing Initiative grant opportunity is to enable States to develop and implement strategies to reform the financing and service designs of State long-term support systems to decrease reliance on institutional forms of care and increase the utilization of community-based long-term supports. These rebalancing strategies are likely to include systems for increasing access to home and community based services and transitioning individuals out of institutions.

7. Living With Independence, Freedom, and Equality (LIFE) Account Feasibility and Demonstration

The purpose of the LIFE Account Feasibility and Demonstration grant opportunity is to enable States to conduct studies assessing the feasibility of developing LIFE Account savings programs. States may examine the feasibility of establishing and maintaining a program of individual savings accounts which eligible Medicaid participants can save money without affecting their eligibility or benefit levels for the State's Medicaid program, Supplemental Security Income, Social Security Disability Income, or any Federal assistance program. The LIFE Account savings program is intended to enable people with a disability or chronic condition to become more independent, assume increased responsibilities, and contribute to the communities in which they live.

8. Family-to-Family Health Care Information and Education Centers

The purpose of this grant opportunity is to support the development of Family-to-Family Health Care Information and Education Centers. Organizations will use grant funds to establish Statewide family-run centers that will: (a) Provide education and training opportunities for families with children with special health care needs; (b) develop and disseminate needed health care and home and community-based services (HCBS) information to families and providers; (c) collaborate with existing Family-to-Family Health Care Information and Education Centers to benefit children with special health care needs; and (d) promote the philosophy of individual and family-directed supports.

9. National State-to-State Technical Assistance Program for Community Living

This national technical assistance grant will support all of the FY 2004 “Real Choice Systems Change Grants” efforts for the entire 36-month project period. CMS expects that the technical assistance Grantee will engage in activities that include: (a) Providing technical assistance to the FY 2004 Real Choice Systems Change Grantees, FY 2004 Aging and Disability Resource Center Grantees, and others; (b) providing on-site State-to-State technical assistance; (c) developing technical assistance materials; (d) developing or providing expertise for States and children and adults of any age with a disability or long-term illness; (e) working with individual States, national associations of State agencies, consumer organizations, the National Governors Association, the National Conference of State Legislatures, and others to collect, refine, and disseminate information that aids in the effective administration of programs for community living; and (f) developing, gathering, analyzing, and disseminating relevant practical information.

II. Award Information

Funding Available

This notice announces the availability of Real Choice Systems Change funding of approximately $31 million for FY 2004. CMS anticipates making approximately 46 to 76 grants to States and others in nine categories. The anticipated number of awards, individual award amounts, and period of performance are detailed in section VIII of this notice in the table, “Table of Real Choice Systems Change Grants—FY 2004.” In this table, the amounts listed in the “maximum award” and “anticipated average award” columns refer to the amount available for the entire project period (that is, up to 36 months) and not an annual award amount renewable every 12 months.

Grant applications are due on July 19, 2004. All grant awards will be made before September 30, 2004. All grants awarded under this funding opportunity will have a budget period of 36 months and a start date of no later than October 1, 2004. No more than one grant award per type of grant will be made to any State. A full description of the eligibility requirements for each of the funding opportunities under the Real Choice Systems Change Grants is available in the solicitation package for these grants at http://www.cms.hhs.gov/newfreedom/2004solicitation.pdf.

III. Eligibility Information

1. Eligible Applicants

A. States. By “State” we refer to the definition provided under 45 CFR 74.2 as “any of the several States of the United States, the District of Columbia, the Commonwealth of Puerto Rico, any territory or possession of the United States, or any agency or instrumentality of a State exclusive of local governments.” By “territory or possession” we mean Guam, the U.S. Virgin Islands, American Samoa, and the Commonwealth of the Northern Mariana Islands.

States may and are encouraged to apply for more than one grant opportunity. For example, a State may apply for a Mental Health: Systems Transformation and a Rebalancing Initiative grant. Additionally, different State agencies may apply for different grant opportunities. For example, the single State Medicaid agency might apply for the Quality Assurance & Quality Improvement Systems in HCBS grant and the agency administering a relevant section 1915(c) (of the Act) waiver might apply for the Portals From EPSDT to Adult Supports grant. However, no State may be awarded more than one grant per type of grant opportunity. For example, a State may not receive two Mental Health Systems Transformation grants, two Rebalancing Initiative grants, or two Integrating Long Term Supports with Affordable Housing grants. States may apply for any grant except the Family-to-Family Health Care Information and Education Center grants.

B. State agencies or instrumentalities may apply for funding under any grant except the Family-to-Family Health Care Information and Education Centers grants. If an application is from an applicant that is not the Single State Medicaid Agency, a letter of endorsement from the Governor, State Medicaid Director, or Agency administering a relevant section 1915(c) (of the Act) home and community-based waiver must accompany the application; this requirement does not apply to applicants for the National State-to-State Technical Assistance Program for Community Living grant. To apply for a Mental Health: Systems Transformation grant, the Single State Medicaid Agency must have the support of the Mental Health Authority as demonstrated by a letter of endorsement from the State Mental Health Director.

C. Any entity may apply for the National State-to-State Technical Assistance Program for Community Living grant.

D. Any nonprofit organization, as defined as a corporation or association whose profits may not lawfully accrue to the benefit of any private shareholder or individual, may apply for the Family-to-Family Health Care Information and Education Center grant. Nonprofits whose mission includes services to families with children with special health care needs and whose Board of Directors have a majority of parents of children with special health care needs are especially encouraged to apply.

2. Cost Sharing or Matching

Grantees are required to make a non-financial contribution of 5 percent of the total grant award (including all direct and indirect costs). Non-financial contributions may include the value of goods and/or services contributed by the Grantee (for example, salary and fringe benefits of staff devoting a percentage of their time to the grant not otherwise included in the budget or derived from Federal funds). The non-financial contribution requirement may also be satisfied if a third party participating in the grant makes an “in-kind contribution,” provided that the Grantee's contribution and/or the third-party in-kind contribution equals five percent of the total grant award (including all direct and indirect costs). Third-party in-kind contributions may include the value of the time spent by consumer task force members (using appropriate cost allocation methods to the extent that non-Federal funds are involved) who specifically contribute to the design, development, and implementation of the grant. Non-financial contributions must be included in the applicant's budget in Item 15 (Estimated Funding) on Standard Form 424A and described in the budget narrative/justification section of the solicitation package. The solicitation package for these grants is available at http://www.cms.hhs.gov/newfreedom/2004solicitation.pdf.

3. Eligibility Threshold Criteria

Applications that are not received by the application deadline will not be reviewed.

Even though an application may be reviewed and scored, it will not be funded if the application fails to meet any requirements as outlined in the “Format and Content of Applications” or “Eligibility Information” sections of the solicitation package at http://www.cms.hhs.gov/newfreedom/2004solicitation.pdf.

Applications from an eligible applicant will not be considered for funding if they submit the same or substantially similar scope of work (a) under more than one of this year's grant opportunities or (b) from the applicant's Real Choice Systems Change Grant that was funded in FY 2001, 2002, or 2003.

For all grant opportunities except the Family-to-Family Health Care Information and Education Centers, only one application per grant category will be considered per State. Should a State submit multiple applications for a single grant category, only the highest-ranked application received from that State would be considered for funding.

Although more than one non-profit organization within a State may submit an application for a Family-to-Family Health Care Information and Education Centers grant, a letter of endorsement from the Governor, State Medicaid Director, or Agency administering a relevant section 1915(c) (of the Act) home and community-based waiver (if applicable) is required for each applicant under this grant opportunity and no more than one application per State will be awarded in this grant opportunity.

To apply for the Mental Health: Systems Transformation grant, the Single State Medicaid Agency and the State Mental Health Authority must both endorse the grant application. Either the Medicaid Agency or the Mental Health Authority may serve as the project lead.

States that received a Assurance and Quality Improvement in Home and Community-Based Services grant in FY 2003 (that is, California, Colorado, Connecticut, Delaware, Georgia, Indiana, Maine, Minnesota, Missouri, New York, North Carolina, Ohio, Oregon, Pennsylvania, South Carolina, Tennessee, Texas, West Virginia, Wisconsin) are not eligible for a Quality Assurance & Quality Improvement in HCBS grant award from CMS in FY 2004.

No CMS Family-to-Family Health Care Information and Education grant awards in FY 2004 will be made to any organization within a State that already has an entity that:

• Was awarded a Family-to-Family Health Care Information and Education grant in FY 2003 (that is, Alaska, Colorado, Indiana, Maryland, Montana, Nevada, New Jersey, South Dakota, Wisconsin) or

• Currently operates a Family-to-Family Health Care Information and Education Center funded through the Health Resources and Services Administration (HRSA) (that is, California, Florida, Maine, Minnesota, Tennessee, and Vermont).

States that received a Money Follows the Person Rebalancing Initiative grant in FY 2003 (that is, California, Idaho, Maine, Michigan, Nevada, Pennsylvania, Texas, Washington, and Wisconsin) that plan to apply for a Rebalancing Initiative grant are strongly cautioned that CMS will not fund applications that propose activities that are currently funded under a State's existing CMS grants.

IV. Application and Submission Information

1. Address To Request Application Package

A complete electronic application package, including all required forms, for the Real Choice Systems Change Grants is available at http://www.grants.gov. Applicants are strongly encouraged to submit their applications electronically through http://www.grants.gov.

Standard application forms and related instructions are available online at http://www.whitehouse.gov/omb/grants/sf424.pdf.

Standard application forms, related instructions, and the solicitation package are also available from Nicole Nicholson, Centers for Medicare & Medicaid Services, Office of Operations Management, Acquisition and Grants Group, C2-21-15 Central Building, 7500 Security Boulevard, Baltimore, MD 21244-1850, (410) 786-5158, e-mail: NNicholson@cms.hhs.gov.

2. Content and Form of Application Submission

Applicants are encouraged to submit a Notice of Intent to Apply. Submission of a Notice of Intent to Apply is not required, does not bind the applicant to apply, nor does its submission cause an application to be reviewed more favorably. The receipt of Notices enables CMS to better plan the application review process. A Notice of Intent to Apply may be submitted in any format; however, a sample Notice is available in the solicitation package for these grants at http://www.cms.hhs.gov/newfreedom/2004solicitation.pdf.

A full description of the content and form of applications for each of the funding opportunities under the Real Choice Systems Change Grants is available in the solicitation package for these grants at http://www.cms.hhs.gov/newfreedom/2004solicitation.pdf. A complete application consists of the following materials organized in the following sequence: (a) Title Page and Cover Letter; (b) Standard Forms, (c) Letter of Endorsement (if applicable); (d) Project Abstract; (e) Project Narrative; (f) Budget Narrative/Justification; (g) Required Attachments; and (h) Other Appendices. Applicants may meet CMS' pre-award requirements for documentation to verify cost sharing requirements of this notice through (a) letters of support and commitment from partners who will supply a non-financial match and/or (b) the project budget which specifies the non-financial match provided by the applicant organization.

3. Submission Dates and Times

Information regarding the time and call-in number for an open applicant's teleconference is available on the CMS Web site at http://www.cms.hhs.gov/newfreedom.

Notices of Intent to Apply for a grant are due by June 8, 2004. All grant applications are due by July 19, 2004. Applications submitted through http://www.grants.gov until 11:59 p.m. eastern time on July 19, 2004, will receive an automatic time stamp upon submission and be considered “on time.” Applicants will receive an automatic reply email acknowledging the application's receipt.

Applications mailed through the U.S. Postal Services or a commercial delivery service will be considered “on time” if received by close of business on July 19, 2004, or postmarked (first class mail) by July 19, 2004, and received within five (5) business days. If express, certified, or registered mail is used, proof of timely mailing is a legible dated mailing receipt from the U.S. Postal Service. Private metered postmarks are not acceptable as proof of timely mailings. Applicants who submit applications through the U.S. Postal Services or a commercial delivery service will not receive official notification that their application has been received on time from CMS. Applications that do not meet the above criteria will be considered late. Late applications will not be reviewed.

4. Intergovernmental Review

Applications for these grants are not subject to review by States under Executive Order 12372, “Intergovernmental Review of Federal Programs” (45 CFR part 100).

5. Funding Restrictions

Reimbursement of indirect costs under this notice is governed by the provisions of OMB Circular A-87. A copy of OMB Circular A-87 is available online at: http://www.whitehouse.gov/omb/circulars/a087/a087.html. Additional information regarding the Department's internal policies for indirect rates is available online at: http://www.hhs.gov/grantsnet/adminis/gpd/gpd301.htm.

Grant funds under this notice may be used for direct services to beneficiaries for the Quality Assurance & Quality Improvement in HCBS and Integrating Long Term Supports with Affordable Housing grant opportunities only. Direct Services do not include expenses: (a) Budgeted for consumer task force member participation in Real Choice Systems Change Conferences, (b) the provision of technical assistance; or (c) attendance at technical assistance conferences sponsored by CMS or its national technical assistance providers for the benefit of Real Choice Systems Change Grantees. No grant awards made under this notice may be used to reimburse pre-award costs.

6. Other Submission Requirements

Applicants may submit either an electronic application or a paper copy application. Applicants may not submit the same application in more than one format, and the choice of one application format over another will not cause an application to be reviewed more favorably. All standard application forms may be obtained as detailed in section IV of this notice. Additional submission requirements for the Real Choice Systems Change Grants is available in the solicitation package for these grants at http://www.cms.hhs.gov/newfreedom/2004solicitation.pdf.

Applicants are strongly encouraged to submit their applications electronically. Electronic applications may be submitted through http://www.grants.gov. For complete explanation of the electronic application process, applicants should review the “getting started” information provided at http://www.grants.gov/GetStarted.

Applicants that choose to submit a paper application are required to submit one original application and two copies to: Real Choice Systems Change Grants, Attn: Marian Webb, Centers for Medicare & Medicaid Services, Acquisition and Grants Group, AGG/DRCG, Mail Stop C2-21-15, 7500 Security Boulevard, Baltimore, MD 21244-1850.

Beginning October 1, 2003, applicants are required to have a Dun and Bradstreet (DUNS) number to apply for a grant or cooperative agreement from the Federal Government. The DUNS number is a nine-digit identification number, which uniquely identifies business entities. Obtaining a DUNS number is easy and there is no charge. To obtain a DUNS number, access the following Web site: http://www.dunandbradstreet.com or call 1-866-705-5711. This number should be entered in the block with the applicant's name and address on the cover page of the application (Item 5 on the Form SF-424, Application for Federal Assistance), with the annotation “DUNS” followed by the DUNS number that identified the applicant. The name and address in the application should be exactly as given for the DUNS number.

V. Application Review Information

1. Criteria

Each of the nine funding opportunities available under the Real Choice Systems Change Grants have extremely detailed evaluation criteria, which are available in the solicitation package at http://www.cms.hhs.gov/newfreedom/2004solicitation.pdf. Although the specific criteria and point values differ by funding opportunity, all proposals will be evaluated on strength of their (a) identification of problems or system issues, (b) project description and methodology, (c) significance and sustainability, (d) partnerships, and (e) budget justification and resources.

2. Review and Selection Process

A. How the Merit of Applications Will Be Determined

CMS will employ a multiphase review process to determine the applications that will be reviewed and the merit of the applications that are reviewed. The multiphase application review process includes the following:

• Applications will be screened by Federal staff to determine eligibility for further review using the criteria detailed in section III “Eligibility Information” of this notice. Applications that that are received late or fail to meet the eligibility requirements as detailed in the “Eligibility Information” section of this notice will not be reviewed.

• Applications will be objectively reviewed by a panel of experts, the exact number and composition of which will be determined by CMS at its discretion, but may include private sector subject matter experts, beneficiaries of Medicaid supports, and Federal and State policy staff. The review panels will utilize objective criteria to establish an overall numeric score for each application.

• Results of the objectively review of applications will be used to advise the approving CMS official. Additionally, CMS staff will make final recommendations to the approving official after ranking applications using the scores and comments from the review panel and weighing other factors as described in the “Factors Other than Merit that May be Used in Selecting Applications for Award” section of this notice.

B. Factors Other Than Merit That May Be Used in Selecting Applications for Award

CMS may assure reasonable balance among the grants to be awarded in a particular category in terms of key factors such as geographic distribution and broad target group representation.

CMS may redistribute grant funds based upon the number and quality of applications received for each grant opportunity (for example, to adjust the minimum or maximum awards permitted or adjust the aggregate amount of Federal funds allotted to a particular category of grants).

CMS will not fund activities that are duplicative of efforts funded through its grant programs or other Federal resources.

For applicants that have been awarded previous Real Choice Systems Change Grants, past programmatic performance will be considered in selecting applications for award. To assess the applicant's past programmatic performance, CMS will use the semi-annual, annual, and financial reports submitted by the applicant under the Terms and Conditions of their previously awarded Real Choice Systems Change Grant.

For applicants that have never received a Real Choice Systems Change Grant, past programmatic performance will not be a consideration in selecting applications for award.

VI. Award Administration Information

1. Award Notices

Successful applicants will receive a Notice of Grant Award (NGA) signed and dated by the CMS Grants Management Officer. The NGA is the document authorizing the grant award, and it will be sent through the U.S. Postal Service to the applicant organization. Any communication between CMS and applicants before the issuance of the NGA is not an authorization to begin performance of a project. Unsuccessful applicants will be notified by letter, sent through the U.S. Postal Service to the applicant organization, after October 1, 2004.

2. Administrative and National Policy Requirements

All relevant provisions of 45 CFR part 74 and 45 CFR part 92 will apply to these awards. A full description of the administrative and national policy requirements for the Real Choice Systems Change Grants is available in the solicitation package for these grants at http://www.cms.hhs.gov/newfreedom/2004solicitation.pdf.

This funding opportunity will lead to awards with CMS' standard terms and conditions and may lead to awards with additional “special” terms and conditions. Potential applicants should be aware that special requirements could apply to particular awards based on the particular circumstances of the effort to be supported and/or deficiencies (for example, failure to supply or an acceptable Work Plan or detailed 36-month budget) identified in the application by CMS.

3. Reporting

Grantees must agree to cooperate with any Federal evaluation of the program and provide semi-annual (every 6 months) and final reports (at the end of the grant period) in a form prescribed by CMS (including the SF-269a “Financial Status Report” forms). Reports may be submitted electronically. These reports will outline how grant funds were used, describe program progress, and describe any barriers and measurable outcomes. CMS will provide a format for reporting and technical assistance necessary to complete required report forms. Grantees must also agree to respond to requests that are necessary for the evaluation of the national Real Choice Systems Change Grants efforts and provide data on key elements of their Real Choice Systems Change Grant activities.

VII. Agency Contacts

Programmatic questions about the Real Choice Systems Change Grants may be directed to:

• An e-mail address that multiple people access so that someone will respond even if others are unexpectedly absent during critical periods: RealChoiceFY2004@cms.hhs.gov or

• Mary Guy, Centers for Medicare & Medicaid Services, Center for Medicaid and State Operations, DEHPG/DCSI, Mail Stop S2-14-26, 7500 Security Boulevard, Baltimore, MD 21244-1850, 410-786-2772 (voice), or 410-786-9004 (fax).

Administrative questions about the Real Choice Systems Change Grants may be directed to: Nicole Nicholson, Centers for Medicare & Medicaid Services, Acquisition and Grants Group, AGG/DRCG, Mail Stop C2-21-15, 7500 Security Boulevard, Baltimore, MD 21244-1850, 410-786-5158 (voice), 410-786-9088 (fax), or by e-mail at NNicholson@cms.hhs.gov.

BILLING CODE 4120-01-P

BILLING CODE 4120-01-C

IX. Approval of Collection of Information

This notice informs interested parties of an opportunity to apply for Real Choice Systems Change Grants. If interested, applicants must submit a completed grant application that can be found at http://www.grants.gov.

This information collection requirement is subject to the PRA; however, the burden for this collection requirement is currently approved under OMB control number 0938-0836 entitled “Real Choice Systems Grants; Nursing Facility Transition/Access Housing Grants; Community Personal Assistance Service and Supports Grants, National Technical Assistance and Learning Collaborative Grants to Support Systems Change for Community Living” with a current expiration date of 1/31/2007.

Dated: March 12, 2004.
Dennis G. Smith,
Acting Administrator, Centers for Medicare & Medicaid Services.

[FR Doc. 04-11241 Filed 5-17-04; 8:45 am]

BILLING CODE 4120-01-P